POSTAL REGULATORY COMMISSION

[Docket No. CP2026-3; Order No. 9363]

Inbound Parcel Post (at UPU Rates)

AGENCY: Postal Regulatory Commission.

ACTION: Notice.

SUMMARY: The Commission is recognizing a recent Postal Service filing of a change in rates not of general applicability for Inbound Parcel Post (at Universal Postal Union rates) to be effective January 1, 2026. This document informs the public of the filing, invites public comment, and takes other administrative steps.

DATES: Comments are due: December 5, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Contents of Filing

III. Commission Action

IV. Ordering Paragraphs

I. Introduction

On November 20, 2025, the Postal Service filed notice announcing its intention to change rates not of general applicability for Inbound Parcel Post (at Universal Postal Union (UPU) Rates) effective January 1, 2026.¹

¹ Notice of the United States Postal Service of Filing Changes in Rates Not of General Applicability for Inbound Parcel Post (at UPU Rates), and Notice of Filing Non-Public Materials Under Seal, November 20, 2025, at 1 (Notice).

II. Contents of Filing

With the Notice, the Postal Service filed: a redacted copy of Governors' Decision No. 19-1, a redacted copy of the UPU International Bureau (IB) Circular 154 (dated October 6, 2025) that contains the new rates, a copy of the certification required under 39 CFR 3035.105(c)(2), redacted Postal Service data used to justify any bonus payments, and a copy of the Postal Service's submission to the UPU in support of an inflation-linked adjustment. Notice at 3; see id. Attachments 2-6. The Postal Service also filed redacted Excel versions of financial workpapers. Notice at 3.

Additionally, the Postal Service filed an unredacted copy of Governors' Decision No. 19-1, an unredacted copy of the UPU IB Circular 154, unredacted Postal Service data used to justify any bonus payments under seal, and unredacted Excel versions of financial workpapers. Id. at 4. The Postal Service filed an application for non-public treatment of materials filed under seal. Id.; id. Attachment 1.

The Postal Service states that it has provided supporting documentation as required by Order No. 2102 and Order No. 2310.² In addition, the Postal Service states that it provided citations and copies of relevant UPU IB Circulars and updates to inflation-linked adjustments as required by Order No. 4933.³

² Notice at 4-5. See Docket No. CP2014-52, Order Accepting Price Changes for Inbound Air Parcel Post (at UPU Rates), June 26, 2014, at 6, 7 (Order No. 2102); Docket No. CP2015-24, Order Accepting Changes in Rates for Inbound Parcel Post (at UPU Rates), December 29, 2014, at 4 (Order No. 2310).

³ Notice at 5. See Docket No. CP2019-43, Order Acknowledging Changes in Prices for Inbound Parcel Post (at UPU Rates), December 19, 2018, at 5 (Order No. 4933).

III. Commission Action

The Commission establishes Docket No. CP2026-3 for consideration of matters raised by the Notice.

The Commission invites comments on whether the Postal Service's filing is consistent with 39 U.S.C. 3632 and 3633 and 39 CFR part 3035. Comments are due no later than December 5, 2025. The public portions of the filing can be accessed via the Commission's website (http://www.prc.gov).

The Commission appoints Katalin K. Clendenin to serve as Public Representative in this docket.

IV. Ordering Paragraphs

It is ordered:

1. The Commission establishes Docket No. CP2026-3 for consideration of the matters raised by the Postal Service's Notice.

2. Pursuant to 39 U.S.C. 505, Katalin K. Clendenin is appointed to serve as an officer of the Commission to represent the interests of the general public in this proceeding (Public Representative).

3. Comments are due no later than December 5, 2025.

4. The Secretary shall arrange for publication of this Order in the Federal Register.

By the Commission.
Erica A. Barker,
Secretary.

[FR Doc. 2025-21304 Filed 11-25-25; 8:45 am]

BILLING CODE 7710-FW-P